DEPARTMENT OF THE INTERIOR

Fish and Wildlife Service

[FWS-R2-ES-2010-N180; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before September 29, 2010.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-13850A

Applicant: Jarrod Edens, Fort Worth, Texas.

Applicant requests a new permit for research and recovery purposes to conduct presence/absence surveys for American burying beetle (Nicrophorus americanus) within Oklahoma, Arkansas, and Texas.

Permit TE-037155

Applicant: Bio-West, Inc., Round Rock, Texas.

Applicant requests an amendment to a current permit for research and recovery purposes to conduct presence/absence surveys for Rio Grande silvery minnow (Hybognathus amarus) and southwestern willow flycatcher (Empidonax traillii extimus) along the Rio Grande.

Permit TE-17497A

Applicant: Christa Weise, Tucson, Arizona.

Applicant requests a new permit for research and recovery purposes to conduct presence/absence surveys for lesser long-nosed bat (Leptonycteris yerbabuenae) within Arizona and New Mexico and Mexican long-nosed bat (Leptonycteris nivalis) within New Mexico and Texas.

Permit TE-17509A

Applicant: University of Rhode Island, Kingston, Rhode Island.

Applicant requests a new permit for research and recovery purposes to obtain seeds of Welsh's milkweed (Asclepias welshii) from the Arboretum at Flagstaff (Permit TE-226653) at the University's greenhouse where biological control agent testing will be conducted inside their quarantine facility.

Permit TE-236730

Applicant: Timothy Bonner, San Marcos, Texas.

Applicant requests an amendment to a current permit for research and recovery purposes to conduct presence/absence surveys for fountain darter (Etheostoma fonticola), San Marcos gambusia (Gambusia georgei), Comal Springs riffle beetle (Heterelmis comalensis), Texas wild-rice (Zizania texana), and Texas blind salamander (Eurycea rathbuni) within Texas.

Permit TE-20166A

Applicant: Trinity Bey, Boerne, Texas.

Applicant requests a new permit for research and recovery purposes to conduct presence/absence surveys for golden-cheeked warbler (Dendroica chrysoparia) within Texas.

Authority: 16 U.S.C. 1531 et seq.

Dated: August 18, 2010.
Regional Director, Southwest Region, Fish and Wildlife Service.

[FR Doc. 2010-21502 Filed 8-27-10; 8:45 am]

BILLING CODE 4310-55-P